DEPARTMENT OF ENERGY

Federal Energy Regulatory Commission

18 CFR Part 11

[Docket No. RM11-6-000]

Annual Update to Fee Schedule for the Use of Government Lands by Hydropower Licensees

AGENCY: Federal Energy Regulatory Commission, DOE.

ACTION: Final rule; annual update to fee schedule.

SUMMARY: In accordance with the Commission's regulations, the Commission, by its designee, the Executive Director, issues this annual update to the fee schedule which lists per-acre rental fees by county (or other geographic area) for use of government lands by hydropower licensees.

DATES: This rule is effective March 12, 2013.

FOR FURTHER INFORMATION CONTACT: Norman Richardson, Financial Management Division, Office of the Executive Director, Federal Energy Regulatory Commission, 888 First Street NE., Washington, DC 20426, (202) 502-6219, Norman.Richardson@ferc.gov.

SUPPLEMENTARY INFORMATION:

142 FERC ¶ 62,166

Issued February 27, 2013.

Section 11.2 of the Commission's regulations provides a method for computing reasonable annual charges for recompensing the United States for the use, occupancy, and enjoyment of its lands by hydropower licensees.¹ Annual charges for the use of government lands are payable in advance, and are based on an annual schedule of per-acre rental fees published in Appendix A to Part 11 of the Commission's regulations.² This document updates the fee schedule in Appendix A to Part 11 for fiscal year 2013 (October 1, 2012, through September 30, 2013).

¹ Annual Charges for the Use of Government Lands, Order No. 774, 78 FR 5256 (January 25, 2013), FERC Stats. & Regs. ¶ 31,341 (2013).

² 18 CFR Part 11 (2012).

Effective Date

This Final Rule is effective March 12, 2013. The provisions of 5 U.S.C. 804, regarding Congressional review of final rules, do not apply to this Final Rule because the rule concerns agency procedure and practice and will not substantially affect the rights or obligations of non-agency parties. This Final Rule merely updates the fee schedule published in the Code of Federal Regulations to reflect scheduled adjustments, as provided for in section 11.2 of the Commission's regulations.

List of Subjects in 18 CFR Part 11

Public lands.

By the Director.
Anton C. Porter,
Director, Office of the Executive Director.

In consideration of the foregoing, the Commission amends Chapter I, Title 18, Code of Federal Regulations, as follows.

PART 11—[AMENDED]

1. The authority citation for Part 11 continues to read as follows:

Authority: 16 U.S.C. 792-828c; 42 U.S.C. 7101-7352.

2. Appendix A to Part 11 is added to read as follows:

APPENDIX A TO PART 11—FEE SCHEDULE FOR FY 2013

State | County | Fee/acre/Yr
Alabama | Autauga | $53.06
| Baldwin | 89.12
| Barbour | 48.00
| Bibb | 61.16
| Blount | 87.24
| Bullock | 55.08
| Butler | 58.11
| Calhoun | 86.56
| Chambers | 49.30
| Cherokee | 59.31
| Chilton | 75.66
| Choctaw | 46.85
| Clarke | 44.72
| Clay | 63.88
| Cleburne | 83.84
| Coffee | 59.17
| Colbert | 58.82
| Conecuh | 49.98
| Coosa | 56.88
| Covington | 61.08
| Crenshaw | 58.08
| Cullman | 101.36
| Dale | 57.51
| Dallas | 44.94
| DeKalb | 94.36
| Elmore | 71.03
| Escambia | 57.43
| Etowah | 82.01
| Fayette | 46.33
| Franklin | 57.56
| Geneva | 56.31
| Greene | 42.14
| Hale | 49.85
| Henry | 49.49
| Houston | 57.92
| Jackson | 57.45
| Jefferson | 93.62
| Lamar | 38.84
| Lauderdale | 63.48
| Lawrence | 70.94
| Lee | 82.09
| Limestone | 72.47
| Lowndes | 44.45
| Macon | 51.29
| Madison | 72.96
| Marengo | 45.68
| Marion | 54.86
| Marshall | 101.03
| Mobile | 87.13
| Monroe | 48.84
| Montgomery | 53.09
| Morgan | 77.98
| Perry | 43.58
| Pickens | 51.13
| Pike | 59.09
| Randolph | 66.04
| Russell | 59.58
| St. Clair | 96.10
| Shelby | 101.11
| Sumter | 39.30
| Talladega | 63.37
| Tallapoosa | 67.48
| Tuscaloosa | 67.32
| Walker | 68.49
| Washington | 57.62
| Wilcox | 37.67
| Winston | 70.53
Alaska | Aleutian Islands Chain | 1.52
| Anchorage BLM District | 85.41
| Fairbanks BLM District | 18.77
| Juneau Area | 1,316.83
| Kenai Peninsula | 32.05
| All Areas | 9.44
Arizona | Apache | 2.56
| Cochise | 25.13
| Coconino | 2.60
| Gila | 5.01
| Graham | 7.26
| Greenlee | 30.88
| La Paz | 14.30
| Maricopa | 111.99
| Mohave | 7.43
| Navajo | 3.64
| Pima | 5.88
| Pinal | 47.94
| Santa Cruz | 30.19
| Yavapai | 23.44
| Yuma | 110.18
Arkansas | Arkansas | 50.21
| Ashley | 55.16
| Baxter | 65.93
| Benton | 117.83
| Boone | 65.26
| Bradley | 69.35
| Calhoun | 52.35
| Carroll | 61.10
| Chicot | 42.47
| Clark | 50.18
| Clay | 53.65
| Cleburne | 68.03
| Cleveland | 85.17
| Columbia | 59.23
| Conway | 61.01
| Craighead | 58.77
| Crawford | 78.10
| Crittenden | 51.68
| Cross | 48.07
| Dallas | 40.85
| Desha | 45.88
| Drew | 47.20
| Faulkner | 73.17
| Franklin | 58.29
| Fulton | 42.78
| Garland | 88.06
| Grant | 69.04
| Greene | 60.02
| Hempstead | 50.50
| Hot Spring | 64.49
| Howard | 62.98
| Independence | 51.89
| Izard | 43.76
| Jackson | 48.62
| Jefferson | 50.83
| Johnson | 61.37
| Lafayette | 46.22
| Lawrence | 51.94
| Lee | 48.28
| Lincoln | 52.28
| Little River | 42.80
| Logan | 61.65
| Lonoke | 51.80
| Madison | 71.71
| Marion | 47.40
| Miller | 44.97
| Mississippi | 53.94
| Monroe | 48.24
| Montgomery | 69.06
| Nevada | 49.78
| Newton | 56.51
| Ouachita | 55.26
| Perry | 59.13
| Phillips | 43.48
| Pike | 55.33
| Poinsett | 53.89
| Polk | 70.46
| Pope | 69.61
| Prairie | 44.61
| Pulaski | 59.11
| Randolph | 46.84
| St. Francis | 48.77
| Saline | 74.90
| Scott | 59.92
| Searcy | 43.07
| Sebastian | 73.20
| Sevier | 58.24
| Sharp | 44.73
| Stone | 48.81
| Union | 82.19
| Van Buren | 59.01
| Washington | 99.34
| White | 59.73
| Woodruff | 48.45
| Yell | 59.90
California | Alameda | 29.40
| Alpine | 51.94
| Amador | 36.12
| Butte | 56.96
| Calaveras | 27.79
| Colusa | 30.17
| Contra Costa | 50.08
| Del Norte | 51.56
| El Dorado | 77.04
| Fresno | 60.10
| Glenn | 36.57
| Humboldt | 18.64
| Imperial | 40.11
| Inyo | 7.21
| Kern | 35.07
| Kings | 41.44
| Lake | 69.62
| Lassen | 10.49
| Los Angeles | 106.35
| Madera | 51.43
| Marin | 38.33
| Mariposa | 12.50
| Mendocino | 40.28
| Merced | 54.67
| Modoc | 11.06
| Mono | 23.41
| Monterey | 35.22
| Napa | 205.64
| Nevada | 55.58
| Orange | 91.70
| Placer | 77.25
| Plumas | 13.88
| Riverside | 119.53
| Sacramento | 50.96
| San Benito | 21.13
| San Bernardino | 24.01
| San Diego | 145.93
| San Francisco | 3,466.08
| San Joaquin | 77.09
| San Luis Obispo | 34.47
| San Mateo | 70.82
| Santa Barbara | 53.69
| Santa Clara | 43.36
| Santa Cruz | 170.01
| Shasta | 23.94
| Sierra | 19.78
| Siskiyou | 18.96
| Solano | 37.41
| Sonoma | 120.46
| Stanislaus | 71.85
| Sutter | 49.73
| Tehama | 24.14
| Trinity | 9.43
| Tulare | 62.67
| Tuolumne | 25.76
| Ventura | 172.73
| Yolo | 41.40
| Yuba | 44.97
Colorado | Adams | 22.01
| Alamosa | 29.32
| Arapahoe | 28.38
| Archuleta | 30.75
| Baca | 12.05
| Bent | 9.59
| Boulder | 59.05
| Broomfield | 30.67
| Chaffee | 39.13
| Cheyenne | 11.96
| Clear Creek | 23.25
| Conejos | 23.14
| Costilla | 15.09
| Crowley | 9.35
| Custer | 30.38
| Delta | 53.59
| Denver* | 19.36
| Dolores | 19.55
| Douglas | 59.55
| Eagle | 21.16
| Elbert | 18.79
| El Paso | 24.73
| Fremont | 28.80
| Garfield | 33.52
| Gilpin | 23.69
| Grand | 28.01
| Gunnison | 33.13
| Hinsdale | 50.94
| Huerfano | 12.36
| Jackson | 18.07
| Jefferson | 63.03
| Kiowa | 10.05
| Kit Carson | 14.40
| Lake | 31.60
| La Plata | 25.64
| Larimer | 46.16
| Las Animas | 8.50
| Lincoln | 10.66
| Logan | 16.10
| Mesa | 61.73
| Mineral | 32.63
| Moffat | 13.36
| Montezuma | 17.05
| Montrose | 44.15
| Morgan | 20.23
| Otero | 11.09
| Ouray | 26.71
| Park | 15.79
| Phillips | 20.68
| Pitkin | 47.02
| Prowers | 12.77
| Pueblo | 12.40
| Rio Blanco | 17.77
| Rio Grande | 41.06
| Routt | 25.27
| Saguache | 24.17
| San Juan | 19.36
| San Miguel | 26.62
| Sedgwick | 17.77
| Summit | 28.60
| Teller | 23.58
| Washington | 13.48
| Weld | 28.69
| Yuma | 19.34
Connecticut | Fairfield | 375.51
| Hartford | 379.29
| Litchfield | 326.92
| Middlesex | 446.24
| New Haven | 344.58
| New London | 308.88
| Tolland | 311.88
| Windham | 237.63
Delaware | Kent | 267.08
| New Castle | 319.98
| Sussex | 275.37
Florida | Alachua | 133.82
| Baker | 117.55
| Bay | 141.07
| Bradford | 126.86
| Brevard | 72.42
| Broward | 488.89
| Calhoun | 80.55
| Charlotte | 59.63
| Citrus | 141.01
| Clay | 97.08
| Collier | 109.92
| Columbia | 129.96
| DeSoto | 102.25
| Dixie | 68.04
| Duval | 163.04
| Escambia | 87.29
| Flagler | 73.21
| Franklin | 47.21
| Gadsden | 101.68
| Gilchrist | 123.70
| Glades | 96.63
| Gulf | 87.43
| Hamilton | 89.03
| Hardee | 112.20
| Hendry | 62.48
| Hernando | 180.11
| Highlands | 75.64
| Hillsborough | 187.49
| Holmes | 78.16
| Indian River | 96.50
| Jackson | 68.35
| Jefferson | 82.94
| Lafayette | 69.81
| Lake | 194.04
| Lee | 199.04
| Leon | 70.34
| Levy | 95.84
| Liberty | 34.20
| Madison | 83.86
| Manatee | 114.19
| Marion | 175.13
| Martin | 111.57
| Dade | 508.71
| Monroe | 485.56
| Nassau | 116.74
| Okaloosa | 99.54
| Okeechobee | 84.69
| Orange | 120.96
| Osceola | 47.07
| Palm Beach | 75.70
| Pasco | 141.53
| Pinellas | 453.80
| Polk | 131.45
| Putnam | 97.90
| St. Johns | 161.82
| St. Lucie | 113.16
| Santa Rosa | 106.39
| Sarasota | 140.55
| Seminole | 156.36
| Sumter | 106.40
| Suwannee | 113.71
| Taylor | 86.39
| Union | 84.71
| Volusia | 181.80
| Wakulla | 58.18
| Walton | 83.18
| Washington | 82.12
Georgia | Appling | 69.84
| Atkinson | 73.43
| Bacon | 70.10
| Baker | 66.20
| Baldwin | 62.82
| Banks | 166.10
| Barrow | 164.41
| Bartow | 119.83
| Ben Hill | 58.33
| Berrien | 72.85
| Bibb | 99.19
| Bleckley | 68.02
| Brantley | 71.00
| Brooks | 75.65
| Bryan | 50.41
| Bulloch | 69.23
| Burke | 64.40
| Butts | 93.60
| Calhoun | 52.47
| Camden | 46.67
| Candler | 71.40
| Carroll | 140.24
| Catoosa | 147.52
| Charlton | 55.93
| Chatham | 120.62
| Chattahoochee | 64.11
| Chattooga | 86.60
| Cherokee | 238.03
| Clarke | 129.07
| Clay | 65.96
| Clayton | 154.23
| Clinch | 71.32
| Cobb | 150.27
| Coffee | 65.91
| Colquitt | 76.89
| Columbia | 103.71
| Cook | 76.55
| Coweta | 97.50
| Crawford | 77.86
| Crisp | 59.28
| Dade | 83.86
| Dawson | 182.31
| Decatur | 70.18
| DeKalb | 269.44
| Dodge | 52.97
| Dooly | 55.17
| Dougherty | 67.65
| Douglas | 191.63
| Early | 63.29
| Echols | 85.52
| Effingham | 84.41
| Elbert | 91.27
| Emanuel | 57.36
| Evans | 63.93
| Fannin | 143.48
| Fayette | 176.56
| Floyd | 97.53
| Forsyth | 220.24
| Franklin | 170.19
| Fulton | 146.44
| Gilmer | 199.28
| Glascock | 56.78
| Glynn | 93.94
| Gordon | 141.93
| Grady | 78.89
| Greene | 104.73
| Gwinnett | 253.76
| Habersham | 184.47
| Hall | 196.01
| Hancock | 66.44
| Haralson | 108.64
| Harris | 87.97
| Hart | 151.08
| Heard | 109.41
| Henry | 158.11
| Houston | 97.45
| Irwin | 59.36
| Jackson | 163.15
| Jasper | 101.22
| Jeff Davis | 58.81
| Jefferson | 56.70
| Jenkins | 50.55
| Johnson | 51.92
| Jones | 93.94
| Lamar | 109.93
| Lanier | 62.61
| Laurens | 55.93
| Lee | 66.04
| Liberty | 53.63
| Lincoln | 77.52
| Long | 58.02
| Lowndes | 97.71
| Lumpkin | 172.86
| McDuffie | 75.20
| McIntosh | 61.84
| Macon | 74.54
| Madison | 133.14
| Marion | 66.25
| Meriwether | 96.00
| Miller | 70.40
| Mitchell | 69.02
| Monroe | 85.62
| Montgomery | 65.38
| Morgan | 136.17
| Murray | 106.13
| Muscogee | 85.81
| Newton | 113.23
| Oconee | 144.38
| Oglethorpe | 96.63
| Paulding | 174.44
| Peach | 98.66
| Pickens | 174.29
| Pierce | 75.36
| Pike | 110.12
| Polk | 111.94
| Pulaski | 69.97
| Putnam | 109.51
| Quitman | 67.47
| Rabun | 143.06
| Randolph | 56.64
| Richmond | 107.77
| Rockdale | 145.01
| Schley | 79.58
| Screven | 62.19
| Seminole | 60.07
| Spalding | 142.48
| Stephens | 134.85
| Stewart | 64.85
| Sumter | 61.79
| Talbot | 55.75
| Taliaferro | 69.13
| Tattnall | 73.54
| Taylor | 56.64
| Telfair | 59.65
| Terrell | 62.74
| Thomas | 71.93
| Tift | 68.15
| Toombs | 56.51
| Towns | 166.79
| Treutlen | 58.60
| Troup | 100.93
| Turner | 65.43
| Twiggs | 67.54
| Union | 156.81
| Upson | 83.75
| Walker | 113.52
| Walton | 154.04
| Ware | 80.64
| Warren | 66.01
| Washington | 58.52
| Wayne | 76.44
| Webster | 59.81
| Wheeler | 56.49
| White | 190.04
| Whitfield | 123.53
| Wilcox | 58.99
| Wilkes | 69.31
| Wilkinson | 58.86
| Worth | 63.95
Hawaii | Hawaii | 143.51
| Honolulu | 365.38
| Kauai | 128.26
| Maui | 169.38
Idaho | Ada | 51.25
| Adams | 16.43
| Bannock | 18.34
| Bear Lake | 15.91
| Benewah | 19.82
| Bingham | 21.21
| Blaine | 19.66
| Boise | 18.28
| Bonner | 51.82
| Bonneville | 24.73
| Boundary | 46.54
| Butte | 18.27
| Camas | 14.95
| Canyon | 74.72
| Caribou | 13.16
| Cassia | 20.31
| Clark | 10.70
| Clearwater | 25.28
| Custer | 28.79
| Elmore | 16.82
| Franklin | 25.34
| Fremont | 22.98
| Gem | 27.56
| Gooding | 48.57
| Idaho | 17.20
| Jefferson | 25.35
| Jerome | 41.97
| Kootenai | 49.51
| Latah | 25.35
| Lemhi | 19.36
| Lewis | 18.42
| Lincoln | 26.19
| Madison | 33.35
| Minidoka | 29.56
| Nez Perce | 17.90
| Oneida | 14.32
| Owyhee | 16.70
| Payette | 34.27
| Power | 12.73
| Shoshone | 71.26
| Teton | 44.61
| Twin Falls | 30.25
| Valley | 40.20
| Washington | 11.94
Illinois | Adams | 97.42
| Alexander | 85.92
| Bond | 94.61
| Boone | 137.28
| Brown | 84.73
| Bureau | 112.42
| Calhoun | 86.34
| Carroll | 102.12
| Cass | 98.86
| Champaign | 120.87
| Christian | 116.09
| Clark | 89.84
| Clay | 81.59
| Clinton | 105.78
| Coles | 107.62
| Cook | 289.51
| Crawford | 91.06
| Cumberland | 97.86
| DeKalb | 128.70
| De Witt | 115.84
| Douglas | 116.84
| DuPage | 208.59
| Edgar | 106.20
| Edwards | 77.42
| Effingham | 100.28
| Fayette | 81.84
| Ford | 110.42
| Franklin | 70.42
| Fulton | 97.86
| Gallatin | 82.56
| Greene | 100.78
| Grundy | 115.37
| Hamilton | 83.36
| Hancock | 92.34
| Hardin | 63.67
| Henderson | 95.81
| Henry | 109.73
| Iroquois | 112.00
| Jackson | 77.73
| Jasper | 91.92
| Jefferson | 78.73
| Jersey | 101.67
| Jo Daviess | 111.20
| Johnson | 65.11
| Kane | 135.01
| Kankakee | 120.28
| Kendall | 120.23
| Knox | 111.67
| Lake | 175.73
| La Salle | 116.70
| Lawrence | 91.06
| Lee | 119.81
| Livingston | 115.03
| Logan | 116.75
| McDonough | 107.87
| McHenry | 139.98
| McLean | 116.14
| Macon | 123.92
| Macoupin | 106.50
| Madison | 114.95
| Marion | 86.70
| Marshall | 112.34
| Mason | 91.67
| Massac | 70.34
| Menard | 106.48
| Mercer | 102.42
| Monroe | 98.78
| Montgomery | 105.92
| Morgan | 109.28
| Moultrie | 117.45
| Ogle | 125.98
| Peoria | 107.92
| Perry | 77.89
| Piatt | 121.34
| Pike | 97.67
| Pope | 63.14
| Pulaski | 82.14
| Putnam | 109.37
| Randolph | 89.34
| Richland | 85.39
| Rock Island | 113.78
| St. Clair | 105.53
| Saline | 80.28
| Sangamon | 108.09
| Schuyler | 90.56
| Scott | 100.12
| Shelby | 98.61
| Stark | 114.50
| Stephenson | 107.42
| Tazewell | 112.12
| Union | 73.61
| Vermilion | 109.73
| Wabash | 90.03
| Warren | 113.62
| Washington | 93.73
| Wayne | 74.92
| White | 78.89
| Whiteside | 106.12
| Will | 156.65
| Williamson | 78.73
| Winnebago | 122.53
| Woodford | 117.73
Indiana | Adams | 120.40
| Allen | 111.66
| Bartholomew | 105.39
| Benton | 93.90
| Blackford | 76.09
| Boone | 108.44
| Brown | 119.32
| Carroll | 114.38
| Cass | 99.17
| Clark | 99.31
| Clay | 87.55
| Clinton | 114.77
| Crawford | 80.58
| Daviess | 100.95
| Dearborn | 106.64
| Decatur | 98.87
| DeKalb | 100.62
| Delaware | 97.62
| Dubois | 89.71
| Elkhart | 153.95
| Fayette | 90.77
| Floyd | 128.53
| Fountain | 95.73
| Franklin | 102.00
| Fulton | 93.04
| Gibson | 87.41
| Grant | 94.82
| Greene | 80.67
| Hamilton | 126.12
| Hancock | 113.77
| Harrison | 90.18
| Hendricks | 114.16
| Henry | 95.76
| Howard | 115.10
| Huntington | 96.09
| Jackson | 83.39
| Jasper | 92.79
| Jay | 110.30
| Jefferson | 94.49
| Jennings | 88.49
| Johnson | 123.57
| Knox | 95.93
| Kosciusko | 103.50
| LaGrange | 141.33
| Lake | 109.91
| LaPorte | 101.42
| Lawrence | 77.78
| Madison | 103.67
| Marion | 162.97
| Marshall | 98.68
| Martin | 89.66
| Miami | 93.01
| Monroe | 101.03
| Montgomery | 104.20
| Morgan | 108.41
| Newton | 100.15
| Noble | 102.56
| Ohio | 99.09
| Orange | 80.67
| Owen | 89.10
| Parke | 85.94
| Perry | 73.98
| Pike | 77.34
| Porter | 115.46
| Posey | 84.55
| Pulaski | 86.10
| Putnam | 99.81
| Randolph | 87.44
| Ripley | 96.54
| Rush | 102.09
| St. Joseph | 101.28
| Scott | 85.69
| Shelby | 105.28
| Spencer | 84.63
| Starke | 84.22
| Steuben | 108.72
| Sullivan | 83.16
| Switzerland | 97.70
| Tippecanoe | 109.44
| Tipton | 114.33
| Union | 104.22
| Vanderburgh | 95.21
| Vermillion | 88.21
| Vigo | 85.27
| Wabash | 99.29
| Warren | 98.01
| Warrick | 84.72
| Washington | 78.36
| Wayne | 90.82
| Wells | 96.12
| White | 106.42
| Whitley | 106.00
Iowa | Adair | 75.43
| Adams | 71.06
| Allamakee | 77.52
| Appanoose | 60.10
| Audubon | 96.56
| Benton | 100.46
| Black Hawk | 108.53
| Boone | 104.58
| Bremer | 110.17
| Buchanan | 104.94
| Buena Vista | 106.58
| Butler | 97.73
| Calhoun | 106.08
| Carroll | 102.46
| Cass | 85.46
| Cedar | 102.38
| Cerro Gordo | 99.87
| Cherokee | 105.66
| Chickasaw | 100.85
| Clarke | 64.38
| Clay | 100.49
| Clayton | 86.51
| Clinton | 94.81
| Crawford | 86.71
| Dallas | 93.06
| Davis | 65.33
| Decatur | 57.34
| Delaware | 105.80
| Des Moines | 91.50
| Dickinson | 98.48
| Dubuque | 94.50
| Emmet | 100.04
| Fayette | 93.92
| Floyd | 103.77
| Franklin | 101.38
| Fremont | 85.21
| Greene | 106.03
| Grundy | 109.26
| Guthrie | 83.37
| Hamilton | 109.84
| Hancock | 99.51
| Hardin | 105.36
| Harrison | 82.56
| Henry | 85.04
| Howard | 84.93
| Humboldt | 104.41
| Ida | 89.49
| Iowa | 85.76
| Jackson | 79.03
| Jasper | 96.12
| Jefferson | 79.22
| Johnson | 104.41
| Jones | 97.31
| Keokuk | 82.78
| Kossuth | 100.29
| Lee | 75.43
| Linn | 104.72
| Louisa | 88.82
| Lucas | 60.51
| Lyon | 116.97
| Madison | 82.25
| Mahaska | 85.40
| Marion | 81.14
| Marshall | 103.66
| Mills | 92.78
| Mitchell | 99.71
| Monona | 88.30
| Monroe | 62.91
| Montgomery | 81.25
| Muscatine | 98.76
| O'Brien | 117.05
| Osceola | 107.97
| Page | 75.55
| Palo Alto | 100.71
| Plymouth | 100.99
| Pocahontas | 102.52
| Polk | 107.06
| Pottawattamie | 101.04
| Poweshiek | 92.44
| Ringgold | 63.27
| Sac | 107.36
| Scott | 117.08
| Shelby | 89.44
| Sioux | 126.21
| Story | 99.07
| Tama | 96.45
| Taylor | 69.23
| Union | 70.09
| Van Buren | 68.98
| Wapello | 85.90
| Warren | 87.13
| Washington | 102.66
| Wayne | 62.32
| Webster | 100.63
| Winnebago | 93.28
| Winneshiek | 90.47
| Woodbury | 82.98
| Worth | 98.57
| Wright | 108.84
Kansas | Allen | 27.67
| Anderson | 28.06
| Atchison | 37.50
| Barber | 17.82
| Barton | 23.17
| Bourbon | 30.78
| Brown | 46.81
| Butler | 29.95
| Chase | 26.60
| Chautauqua | 24.22
| Cherokee | 34.10
| Cheyenne | 16.91
| Clark | 17.35
| Clay | 32.04
| Cloud | 27.87
| Coffey | 26.82
| Comanche | 14.61
| Cowley | 26.27
| Crawford | 29.62
| Decatur | 18.04
| Dickinson | 29.13
| Doniphan | 47.03
| Douglas | 52.82
| Edwards | 24.08
| Elk | 26.96
| Ellis | 21.25
| Ellsworth | 20.73
| Finney | 21.50
| Ford | 19.55
| Franklin | 45.38
| Geary | 34.46
| Gove | 16.53
| Graham | 16.97
| Grant | 21.96
| Gray | 23.39
| Greeley | 19.41
| Greenwood | 26.30
| Hamilton | 18.42
| Harper | 20.26
| Harvey | 37.48
| Haskell | 29.16
| Hodgeman | 16.31
| Jackson | 32.42
| Jefferson | 44.12
| Jewell | 22.71
| Johnson | 55.02
| Kearny | 18.92
| Kingman | 23.04
| Kiowa | 17.30
| Labette | 28.17
| Lane | 16.42
| Leavenworth | 53.57
| Lincoln | 21.58
| Linn | 36.85
| Logan | 16.75
| Lyon | 26.82
| McPherson | 30.91
| Marion | 27.43
| Marshall | 34.59
| Meade | 19.44
| Miami | 56.39
| Mitchell | 25.31
| Montgomery | 31.35
| Morris | 24.11
| Morton | 15.81
| Nemaha | 38.68
| Neosho | 29.13
| Ness | 14.83
| Norton | 18.83
| Osage | 33.06
| Osborne | 20.84
| Ottawa | 22.71
| Pawnee | 23.50
| Phillips | 19.16
| Pottawatomie | 32.75
| Pratt | 24.57
| Rawlins | 17.52
| Reno | 27.81
| Republic | 30.45
| Rice | 24.60
| Riley | 34.18
| Rooks | 18.04
| Rush | 19.22
| Russell | 18.09
| Saline | 29.51
| Scott | 20.43
| Sedgwick | 39.65
| Seward | 19.96
| Shawnee | 43.87
| Sheridan | 21.28
| Sherman | 20.76
| Smith | 21.50
| Stafford | 23.80
| Stanton | 21.00
| Stevens | 21.69
| Sumner | 25.75
| Thomas | 22.43
| Trego | 16.97
| Wabaunsee | 26.77
| Wallace | 17.10
| Washington | 28.39
| Wichita | 18.37
| Wilson | 26.38
| Woodson | 25.51
| Wyandotte | 66.74
Kentucky | Adair | 68.34
| Allen | 77.19
| Anderson | 75.11
| Ballard | 71.21
| Barren | 76.97
| Bath | 55.87
| Bell | 53.57
| Boone | 136.23
| Bourbon | 130.07
| Boyd | 71.96
| Boyle | 89.47
| Bracken | 56.78
| Breathitt | 41.93
| Breckinridge | 58.52
| Bullitt | 104.71
| Butler | 53.51
| Caldwell | 54.76
| Calloway | 78.02
| Campbell | 108.00
| Carlisle | 65.68
| Carroll | 65.54
| Carter | 49.17
| Casey | 56.06
| Christian | 71.35
| Clark | 92.62
| Clay | 51.83
| Clinton | 63.53
| Crittenden | 52.27
| Cumberland | 50.06
| Daviess | 83.63
| Edmonson | 59.99
| Elliott | 43.12
| Estill | 55.28
| Fayette | 182.36
| Fleming | 54.54
| Floyd | 64.24
| Franklin | 89.83
| Fulton | 62.53
| Gallatin | 82.44
| Garrard | 72.51
| Grant | 77.96
| Graves | 77.58
| Grayson | 59.46
| Green | 64.16
| Greenup | 54.76
| Hancock | 59.49
| Hardin | 79.51
| Harlan | 46.32
| Harrison | 74.20
| Hart | 66.65
| Henderson | 77.11
| Henry | 90.38
| Hickman | 72.51
| Hopkins | 60.48
| Jackson | 50.56
| Jefferson | 201.94
| Jessamine | 129.90
| Johnson | 59.02
| Kenton | 123.12
| Knott | 55.15
| Knox | 60.65
| Larue | 75.78
| Laurel | 78.93
| Lawrence | 40.60
| Lee | 35.90
| Leslie | 22.04
| Letcher | 46.41
| Lewis | 42.26
| Lincoln | 65.77
| Livingston | 54.32
| Logan | 73.59
| Lyon | 47.57
| McCracken | 80.92
| McCreary | 66.07
| McLean | 83.30
| Madison | 81.61
| Magoffin | 46.49
| Marion | 67.67
| Marshall | 70.55
| Martin | 23.04
| Mason | 69.91
| Meade | 81.45
| Menifee | 52.02
| Mercer | 94.61
| Metcalfe | 64.52
| Monroe | 64.27
| Montgomery | 69.80
| Morgan | 44.86
| Muhlenberg | 54.68
| Nelson | 89.99
| Nicholas | 54.65
| Ohio | 55.37
| Oldham | 169.01
| Owen | 63.03
| Owsley | 41.24
| Pendleton | 69.91
| Perry | 33.69
| Pike | 25.89
| Powell | 53.27
| Pulaski | 72.60
| Robertson | 49.31
| Rockcastle | 57.08
| Rowan | 54.73
| Russell | 85.73
| Scott | 106.48
| Shelby | 122.57
| Simpson | 81.72
| Spencer | 91.13
| Taylor | 68.50
| Todd | 79.04
| Trigg | 71.44
| Trimble | 70.47
| Union | 71.44
| Warren | 86.73
| Washington | 68.17
| Wayne | 56.53
| Webster | 64.33
| Whitley | 68.01
| Wolfe | 48.84
| Woodford | 192.71
Louisiana | Acadia | 48.47
| Allen | 49.86
| Ascension | 91.09
| Assumption | 67.35
| Avoyelles | 46.63
| Beauregard | 58.63
| Bienville | 56.32
| Bossier | 72.94
| Caddo | 56.11
| Calcasieu | 46.76
| Caldwell | 49.57
| Cameron | 46.82
| Catahoula | 42.96
| Claiborne | 68.43
| Concordia | 45.74
| De Soto | 52.51
| East Baton Rouge | 105.89
| East Carroll | 41.85
| East Feliciana | 68.11
| Evangeline | 46.45
| Franklin | 45.58
| Grant | 48.63
| Iberia | 65.59
| Iberville | 75.12
| Jackson | 82.47
| Jefferson | 54.35
| Jefferson Davis | 46.42
| Lafayette | 89.67
| Lafourche | 63.88
| La Salle | 60.86
| Lincoln | 83.68
| Livingston | 113.75
| Madison | 42.20
| Morehouse | 42.64
| Natchitoches | 43.40
| Orleans | 54.04
| Ouachita | 58.76
| Plaquemines | 33.11
| Pointe Coupee | 51.78
| Rapides | 65.83
| Red River | 44.01
| Richland | 42.09
| Sabine | 77.85
| St. Bernard | 30.88
| St. Charles | 54.04
| St. Helena | 79.93
| St. James | 68.22
| St. John the Baptist | 75.65
| St. Landry | 51.62
| St. Martin | 63.23
| St. Mary | 58.79
| St. Tammany | 141.76
| Tangipahoa | 102.27
| Tensas | 42.35
| Terrebonne | 31.22
| Union | 77.33
| Vermilion | 52.51
| Vernon | 81.82
| Washington | 86.52
| Webster | 67.32
| West Baton Rouge | 78.67
| West Carroll | 48.26
| West Feliciana | 63.28
| Winn | 56.77
Maine | Androscoggin | 79.06
| Aroostook | 30.53
| Cumberland | 131.46
| Franklin | 69.49
| Hancock | 74.99
| Kennebec | 71.93
| Knox | 102.22
| Lincoln | 101.66
| Oxford | 73.04
| Penobscot | 60.40
| Piscataquis | 52.92
| Sagadahoc | 98.25
| Somerset | 49.77
| Waldo | 59.90
| Washington | 29.90
| York | 124.40
Maryland | Allegany | 119.76
| Anne Arundel | 359.24
| Baltimore | 250.55
| Calvert | 232.70
| Caroline | 149.91
| Carroll | 214.42
| Cecil | 209.22
| Charles | 184.68
| Dorchester | 133.20
| Frederick | 227.01
| Garrett | 157.55
| Harford | 264.48
| Howard | 359.45
| Kent | 166.10
| Montgomery | 261.18
| Prince George's | 257.38
| Queen Anne's | 157.42
| St. Mary's | 198.04
| Somerset | 172.52
| Talbot | 167.84
| Washington | 206.42
| Wicomico | 157.61
| Worcester | 119.90
Massachusetts | Barnstable | 869.31
| Berkshire | 214.37
| Bristol | 390.35
| Dukes | 369.19
| Essex | 453.25
| Franklin | 189.88
| Hampden | 259.78
| Hampshire | 219.70
| Middlesex | 458.61
| Nantucket | 248.35
| Norfolk | 507.42
| Plymouth | 358.03
| Suffolk | 651.62
| Worcester | 288.50
Michigan | Alcona | 65.59
| Alger | 58.00
| Allegan | 112.83
| Alpena | 69.63
| Antrim | 104.11
| Arenac | 64.61
| Baraga | 55.23
| Barry | 94.18
| Bay | 76.03
| Benzie | 123.62
| Berrien | 124.54
| Branch | 80.88
| Calhoun | 81.26
| Cass | 94.53
| Charlevoix | 102.20
| Cheboygan | 73.01
| Chippewa | 51.93
| Clare | 77.40
| Clinton | 97.56
| Crawford | 109.40
| Delta | 61.65
| Dickinson | 66.61
| Eaton | 82.18
| Emmet | 96.58
| Genesee | 100.71
| Gladwin | 79.88
| Gogebic | 92.08
| Grand Traverse | 150.49
| Gratiot | 79.83
| Hillsdale | 81.29
| Houghton | 53.55
| Huron | 84.15
| Ingham | 103.09
| Ionia | 92.70
| Iosco | 72.71
| Iron | 73.54
| Isabella | 80.37
| Jackson | 93.59
| Kalamazoo | 112.85
| Kalkaska | 92.70
| Kent | 130.55
| Keweenaw | 56.49
| Lake | 78.56
| Lapeer | 111.07
| Leelanau | 190.74
| Lenawee | 86.28
| Livingston | 136.08
| Luce | 79.48
| Mackinac | 57.06
| Macomb | 139.05
| Manistee | 83.10
| Marquette | 65.15
| Mason | 86.12
| Mecosta | 78.40
| Menominee | 60.14
| Midland | 80.94
| Missaukee | 78.78
| Monroe | 103.22
| Montcalm | 77.29
| Montmorency | 64.21
| Muskegon | 106.89
| Newaygo | 92.13
| Oakland | 227.22
| Oceana | 102.03
| Ogemaw | 76.08
| Ontonagon | 42.90
| Osceola | 71.98
| Oscoda | 69.07
| Otsego | 71.71
| Ottawa | 156.94
| Presque Isle | 60.86
| Roscommon | 112.48
| Saginaw | 76.49
| St. Clair | 103.44
| St. Joseph | 91.24
| Sanilac | 78.67
| Schoolcraft | 37.88
| Shiawassee | 79.45
| Tuscola | 81.72
| Van Buren | 115.50
| Washtenaw | 134.98
| Wayne | 208.84
| Wexford | 86.01
Minnesota | Aitkin | 46.47
| Anoka | 161.10
| Becker | 52.04
| Beltrami | 43.04
| Benton | 84.39
| Big Stone | 59.63
| Blue Earth | 98.37
| Brown | 81.89
| Carlton | 57.77
| Carver | 109.17
| Cass | 58.85
| Chippewa | 74.17
| Chisago | 119.37
| Clay | 51.21
| Clearwater | 41.18
| Cook | 119.01
| Cottonwood | 82.17
| Crow Wing | 71.84
| Dakota | 107.79
| Dodge | 102.22
| Douglas | 66.74
| Faribault | 87.99
| Fillmore | 79.82
| Freeborn | 86.05
| Goodhue | 98.90
| Grant | 61.87
| Hennepin | 151.99
| Houston | 74.19
| Hubbard | 64.17
| Isanti | 110.75
| Itasca | 55.00
| Jackson | 84.30
| Kanabec | 67.96
| Kandiyohi | 78.74
| Kittson | 32.79
| Koochiching | 37.44
| Lac qui Parle | 63.59
| Lake | 92.06
| Lake of the Woods | 33.12
| Le Sueur | 97.04
| Lincoln | 62.51
| Lyon | 76.08
| McLeod | 94.14
| Mahnomen | 38.55
| Marshall | 35.78
| Martin | 85.27
| Meeker | 83.28
| Mille Lacs | 77.05
| Morrison | 64.36
| Mower | 88.10
| Murray | 73.47
| Nicollet | 93.36
| Nobles | 87.02
| Norman | 43.40
| Olmsted | 99.54
| Otter Tail | 55.69
| Pennington | 38.05
| Pine | 59.77
| Pipestone | 75.19
| Polk | 41.60
| Pope | 60.71
| Ramsey | 231.92
| Red Lake | 37.36
| Redwood | 83.83
| Renville | 80.68
| Rice | 116.85
| Rock | 90.06
| Roseau | 30.58
| St. Louis | 54.31
| Scott | 138.95
| Sherburne | 106.57
| Sibley | 91.95
| Stearns | 78.38
| Steele | 93.33
| Stevens | 68.93
| Swift | 69.13
| Todd | 60.60
| Traverse | 60.49
| Wabasha | 81.04
| Wadena | 53.17
| Waseca | 96.24
| Washington | 158.58
| Watonwan | 82.84
| Wilkin | 54.28
| Winona | 82.59
| Wright | 111.22
| Yellow Medicine | 70.12
Mississippi | Adams | 45.57
| Alcorn | 45.35
| Amite | 64.47
| Attala | 42.63
| Benton | 38.96
| Bolivar | 54.27
| Calhoun | 37.87
| Carroll | 40.86
| Chickasaw | 39.69
| Choctaw | 48.10
| Claiborne | 43.61
| Clarke | 50.63
| Clay | 39.83
| Coahoma | 49.05
| Copiah | 52.45
| Covington | 67.41
| DeSoto | 63.82
| Forrest | 82.24
| Franklin | 50.68
| George | 79.63
| Greene | 64.34
| Grenada | 43.63
| Hancock | 81.28
| Harrison | 130.55
| Hinds | 50.65
| Holmes | 45.59
| Humphreys | 45.97
| Issaquena | 46.98
| Itawamba | 40.91
| Jackson | 98.23
| Jasper | 55.66
| Jefferson | 48.94
| Jefferson Davis | 55.74
| Jones | 84.71
| Kemper | 37.57
| Lafayette | 54.33
| Lamar | 74.02
| Lauderdale | 46.65
| Lawrence | 60.36
| Leake | 61.05
| Lee | 48.45
| Leflore | 46.55
| Lincoln | 62.30
| Lowndes | 48.56
| Madison | 53.26
| Marion | 66.84
| Marshall | 49.18
| Monroe | 40.34
| Montgomery | 41.40
| Neshoba | 66.05
| Newton | 55.44
| Noxubee | 41.73
| Oktibbeha | 48.64
| Panola | 41.84
| Pearl River | 73.64
| Perry | 66.49
| Pike | 73.83
| Pontotoc | 45.10
| Prentiss | 38.11
| Quitman | 42.11
| Rankin | 68.12
| Scott | 56.42
| Sharkey | 42.49
| Simpson | 65.78
| Smith | 67.63
| Stone | 74.48
| Sunflower | 47.36
| Tallahatchie | 41.59
| Tate | 55.11
| Tippah | 39.58
| Tishomingo | 42.00
| Tunica | 49.21
| Union | 41.43
| Walthall | 66.81
| Warren | 48.12
| Washington | 48.64
| Wayne | 67.85
| Webster | 40.70
| Wilkinson | 49.21
| Winston | 46.38
| Yalobusha | 41.89
| Yazoo | 46.00
Missouri | Adair | 51.34
| Andrew | 66.75
| Atchison | 67.61
| Audrain | 71.94
| Barry | 71.19
| Barton | 51.23
| Bates | 53.90
| Benton | 52.41
| Bollinger | 51.64
| Boone | 77.34
| Buchanan | 74.50
| Butler | 62.48
| Caldwell | 55.12
| Callaway | 70.25
| Camden | 51.23
| Cape Girardeau | 70.03
| Carroll | 58.29
| Carter | 44.94
| Cass | 78.28
| Cedar | 50.26
| Chariton | 54.29
| Christian | 76.79
| Clark | 54.34
| Clay | 78.58
| Clinton | 64.24
| Cole | 66.45
| Cooper | 61.38
| Crawford | 51.26
| Dade | 50.15
| Dallas | 61.29
| Daviess | 53.41
| DeKalb | 53.99
| Dent | 46.40
| Douglas | 50.87
| Dunklin | 68.16
| Franklin | 82.50
| Gasconade | 60.80
| Gentry | 51.53
| Greene | 90.35
| Grundy | 51.31
| Harrison | 50.65
| Henry | 49.71
| Hickory | 43.07
| Holt | 67.61
| Howard | 58.15
| Howell | 47.81
| Iron | 47.09
| Jackson | 90.05
| Jasper | 60.93
| Jefferson | 84.92
| Johnson | 61.40
| Knox | 52.30
| Laclede | 53.16
| Lafayette | 74.58
| Lawrence | 68.02
| Lewis | 58.76
| Lincoln | 86.44
| Linn | 50.35
| Livingston | 55.83
| McDonald | 65.35
| Macon | 49.41
| Madison | 47.15
| Maries | 46.98
| Marion | 61.51
| Mercer | 49.93
| Miller | 55.03
| Mississippi | 65.21
| Moniteau | 65.48
| Monroe | 62.42
| Montgomery | 78.58
| Morgan | 61.10
| New Madrid | 66.86
| Newton | 72.32
| Nodaway | 57.96
| Oregon | 47.04
| Osage | 53.43
| Ozark | 47.01
| Pemiscot | 59.58
| Perry | 59.97
| Pettis | 65.21
| Phelps | 56.94
| Pike | 65.29
| Platte | 78.39
| Polk | 59.69
| Pulaski | 51.34
| Putnam | 47.56
| Ralls | 65.43
| Randolph | 56.05
| Ray | 60.66
| Reynolds | 39.26
| Ripley | 47.67
| St. Charles | 90.19
| St. Clair | 49.27
| Ste. Genevieve | 59.78
| St. Francois | 72.68
| St Louis | 101.63
| Saline | 60.91
| Schuyler | 46.87
| Scotland | 54.18
| Scott | 71.27
| Shannon | 48.42
| Shelby | 57.16
| Stoddard | 65.32
| Stone | 67.97
| Sullivan | 43.18
| Taney | 52.44
| Texas | 47.89
| Vernon | 50.79
| Warren | 91.65
| Washington | 51.39
| Wayne | 47.04
| Webster | 72.05
| Worth | 45.08
| Wright | 49.93
Montana | Beaverhead | 26.20
| Big Horn | 8.87
| Blaine | 13.33
| Broadwater | 23.96
| Carbon | 31.13
| Carter | 8.57
| Cascade | 19.80
| Chouteau | 14.61
| Custer | 11.37
| Daniels | 12.85
| Dawson | 11.11
| Deer Lodge | 31.98
| Fallon | 12.63
| Fergus | 20.13
| Flathead | 84.35
| Gallatin | 49.15
| Garfield | 9.37
| Glacier | 12.37
| Golden Valley | 16.37
| Granite | 29.96
| Hill | 14.46
| Jefferson | 26.59
| Judith Basin | 18.28
| Lake | 33.81
| Lewis and Clark | 21.30
| Liberty | 10.09
| Lincoln | 80.76
| McCone | 10.35
| Madison | 34.33
| Meagher | 25.41
| Mineral | 79.81
| Missoula | 48.28
| Musselshell | 13.22
| Park | 39.48
| Petroleum | 10.59
| Phillips | 10.87
| Pondera | 15.48
| Powder River | 14.07
| Powell | 19.65
| Prairie | 13.48
| Ravalli | 84.24
| Richland | 15.24
| Roosevelt | 15.44
| Rosebud | 8.37
| Sanders | 32.91
| Sheridan | 14.44
| Silver Bow | 47.15
| Stillwater | 22.24
| Sweet Grass | 26.39
| Teton | 18.44
| Toole | 12.91
| Treasure | 10.80
| Valley | 12.80
| Wheatland | 12.13
| Wibaux | 9.17
| Yellowstone | 16.87
Nebraska | Adams | 55.71
| Antelope | 41.30
| Arthur | 8.34
| Banner | 13.71
| Blaine | 11.31
| Boone | 46.27
| Box Butte | 20.57
| Boyd | 19.50
| Brown | 12.48
| Buffalo | 41.95
| Burt | 62.27
| Butler | 61.37
| Cass | 64.10
| Cedar | 49.59
| Chase | 25.04
| Cherry | 10.14
| Cheyenne | 18.50
| Clay | 57.18
| Colfax | 61.25
| Cuming | 62.25
| Custer | 25.47
| Dakota | 44.07
| Dawes | 14.06
| Dawson | 33.38
| Deuel | 17.70
| Dixon | 46.02
| Dodge | 66.27
| Douglas | 90.94
| Dundy | 20.50
| Fillmore | 60.18
| Franklin | 32.28
| Frontier | 19.55
| Furnas | 24.42
| Gage | 44.84
| Garden | 11.64
| Garfield | 13.91
| Gosper | 30.64
| Grant | 7.57
| Greeley | 29.69
| Hall | 51.06
| Hamilton | 65.04
| Harlan | 28.61
| Hayes | 16.93
| Hitchcock | 19.18
| Holt | 22.37
| Hooker | 8.56
| Howard | 38.93
| Jefferson | 44.74
| Johnson | 38.33
| Kearney | 50.11
| Keith | 21.40
| Keya Paha | 13.86
| Kimball | 17.48
| Knox | 36.35
| Lancaster | 63.30
| Lincoln | 20.82
| Logan | 12.76
| Loup | 11.21
| McPherson | 9.11
| Madison | 54.11
| Merrick | 45.72
| Morrill | 16.13
| Nance | 36.35
| Nemaha | 48.84
| Nuckolls | 41.15
| Otoe | 54.48
| Pawnee | 32.71
| Perkins | 24.39
| Phelps | 51.26
| Pierce | 49.79
| Platte | 56.80
| Polk | 61.60
| Red Willow | 26.32
| Richardson | 47.39
| Rock | 12.73
| Saline | 52.38
| Sarpy | 83.77
| Saunders | 66.72
| Scotts Bluff | 27.19
| Seward | 63.22
| Sheridan | 12.04
| Sherman | 27.32
| Sioux | 11.91
| Stanton | 46.27
| Thayer | 45.47
| Thomas | 8.51
| Thurston | 49.16
| Valley | 28.02
| Washington | 76.63
| Wayne | 59.73
| Webster | 31.51
| Wheeler | 17.50
| York | 65.82
Nevada | Churchill | 17.79
| Clark | 27.06
| Douglas | 21.60
| Elko | 2.74
| Esmeralda | 12.00
| Eureka | 1.27
| Humboldt | 5.14
| Lander | 3.63
| Lincoln | 13.17
| Lyon | 11.28
| Mineral | 8.74
| Nye | 11.44
| Pershing | 6.34
| Storey | 125.74
| Washoe | 7.06
| White Pine | 7.39
| Carson City | 27.71
New Hampshire | Belknap | 152.45
| Carroll | 124.87
| Cheshire | 122.71
| Coos | 63.72
| Grafton | 104.28
| Hillsborough | 182.55
| Merrimack | 126.65
| Rockingham | 254.65
| Strafford | 164.76
| Sullivan | 105.74
New Jersey | Atlantic | 359.87
| Bergen | 1,679.35
| Burlington | 290.79
| Camden | 375.54
| Cape May | 389.67
| Cumberland | 226.84
| Essex | 2,234.19
| Gloucester | 375.20
| Hudson | 372.46
| Hunterdon | 489.64
| Mercer | 456.61
| Middlesex | 492.43
| Monmouth | 575.66
| Morris | 597.21
| Ocean | 439.69
| Passaic | 994.26
| Salem | 254.24
| Somerset | 496.92
| Sussex | 330.69
| Union | 3,234.42
| Warren | 299.75
New Mexico | Bernalillo | 23.27
| Catron | 4.46
| Chaves | 5.35
| Cibola | 3.16
| Colfax | 5.82
| Curry | 11.44
| De Baca | 4.01
| Dona Ana | 33.17
| Eddy | 6.57
| Grant | 4.10
| Guadalupe | 3.17
| Harding | 5.87
| Hidalgo | 2.95
| Lea | 3.90
| Lincoln | 4.86
| Los Alamos | 5.87
| Luna | 6.10
| McKinley | 2.27
| Mora | 9.06
| Otero | 5.61
| Quay | 6.29
| Rio Arriba | 8.21
| Roosevelt | 8.19
| Sandoval | 6.29
| San Juan | 5.44
| San Miguel | 5.67
| Santa Fe | 11.66
| Sierra | 3.78
| Socorro | 4.81
| Taos | 10.86
| Torrance | 5.77
| Union | 5.37
| Valencia | 11.31
New York | Albany | 84.92
| Allegany | 37.77
| Bronx | 60.26
| Broome | 48.90
| Cattaraugus | 46.14
| Cayuga | 56.29
| Chautauqua | 52.15
| Chemung | 48.47
| Chenango | 47.76
| Clinton | 46.38
| Columbia | 113.42
| Cortland | 41.24
| Delaware | 60.07
| Dutchess | 148.36
| Erie | 78.51
| Essex | 62.30
| Franklin | 38.49
| Fulton | 57.56
| Genesee | 46.38
| Greene | 77.34
| Hamilton | 60.26
| Herkimer | 46.17
| Jefferson | 36.71
| Kings | 60.26
| Lewis | 42.51
| Livingston | 53.35
| Madison | 44.58
| Monroe | 68.44
| Montgomery | 57.21
| Nassau | 2,622.21
| New York | 60.26
| Niagara | 56.52
| Oneida | 51.25
| Onondaga | 63.46
| Ontario | 58.38
| Orange | 136.41
| Orleans | 45.48
| Oswego | 49.88
| Otsego | 50.30
| Putnam | 369.87
| Queens | 60.26
| Rensselaer | 83.52
| Richmond | 3,199.08
| Rockland | 1,496.95
| St. Lawrence | 35.65
| Saratoga | 115.62
| Schenectady | 95.28
| Schoharie | 56.68
| Schuyler | 57.69
| Seneca | 53.32
| Steuben | 41.64
| Suffolk | 479.83
| Sullivan | 92.52
| Tioga | 46.38
| Tompkins | 59.92
| Ulster | 105.55
| Warren | 91.97
| Washington | 56.42
| Wayne | 60.52
| Westchester | 842.63
| Wyoming | 47.10
| Yates | 75.36
North Carolina | Alamance | 122.34
| Alexander | 145.03
| Alleghany | 150.63
| Anson | 94.66
| Ashe | 153.02
| Avery | 200.66
| Beaufort | 68.10
| Bertie | 67.81
| Bladen | 87.47
| Brunswick | 113.56
| Buncombe | 188.37
| Burke | 156.07
| Cabarrus | 149.17
| Caldwell | 134.74
| Camden | 78.16
| Carteret | 81.55
| Caswell | 82.85
| Catawba | 140.65
| Chatham | 148.59
| Cherokee | 179.06
| Chowan | 65.31
| Clay | 189.25
| Cleveland | 106.34
| Columbus | 87.44
| Craven | 81.63
| Cumberland | 79.83
| Currituck | 88.24
| Dare | 59.82
| Davidson | 150.95
| Davie | 139.04
| Duplin | 108.33
| Durham | 135.77
| Edgecombe | 66.21
| Forsyth | 178.63
| Franklin | 99.12
| Gaston | 147.93
| Gates | 67.09
| Graham | 116.64
| Granville | 88.67
| Greene | 90.92
| Guilford | 139.20
| Halifax | 63.14
| Harnett | 140.73
| Haywood | 166.08
| Henderson | 273.64
| Hertford | 54.48
| Hoke | 89.86
| Hyde | 62.45
| Iredell | 152.89
| Jackson | 191.79
| Johnston | 114.49
| Jones | 74.10
| Lee | 122.71
| Lenoir | 89.75
| Lincoln | 122.64
| McDowell | 157.43
| Macon | 231.97
| Madison | 140.04
| Martin | 78.00
| Mecklenburg | 411.35
| Mitchell | 135.03
| Montgomery | 98.54
| Moore | 139.25
| Nash | 90.13
| New Hanover | 212.76
| Northampton | 66.96
| Onslow | 121.07
| Orange | 148.93
| Pamlico | 65.36
| Pasquotank | 68.76
| Pender | 106.87
| Perquimans | 76.51
| Person | 90.34
| Pitt | 90.07
| Polk | 197.85
| Randolph | 128.55
| Richmond | 101.72
| Robeson | 76.46
| Rockingham | 102.92
| Rowan | 137.87
| Rutherford | 116.43
| Sampson | 99.20
| Scotland | 76.83
| Stanly | 106.69
| Stokes | 112.63
| Surry | 124.41
| Swain | 162.76
| Transylvania | 194.93
| Tyrrell | 60.48
| Union | 138.16
| Vance | 87.68
| Wake | 210.85
| Warren | 65.23
| Washington | 59.37
| Watauga | 188.40
| Wayne | 110.40
| Wilkes | 148.35
| Wilson | 85.40
| Yadkin | 137.82
| Yancey | 129.19
North Dakota | Adams | 16.18
| Barnes | 26.13
| Benson | 20.18
| Billings | 13.09
| Bottineau | 20.40
| Bowman | 14.20
| Burke | 17.40
| Burleigh | 20.21
| Cass | 40.77
| Cavalier | 26.40
| Dickey | 28.93
| Divide | 17.37
| Dunn | 14.20
| Eddy | 16.40
| Emmons | 18.87
| Foster | 21.15
| Golden Valley | 12.98
| Grand Forks | 29.38
| Grant | 14.37
| Griggs | 18.96
| Hettinger | 20.76
| Kidder | 15.93
| LaMoure | 29.21
| Logan | 20.32
| McHenry | 18.20
| McIntosh | 20.15
| McKenzie | 14.34
| McLean | 21.68
| Mercer | 16.70
| Morton | 17.65
| Mountrail | 16.34
| Nelson | 19.48
| Oliver | 17.87
| Pembina | 37.58
| Pierce | 17.93
| Ramsey | 19.59
| Ransom | 28.57
| Renville | 24.93
| Richland | 38.36
| Rolette | 18.59
| Sargent | 31.24
| Sheridan | 16.31
| Sioux | 10.28
| Slope | 13.37
| Stark | 19.84
| Steele | 27.07
| Stutsman | 22.82
| Towner | 20.71
| Traill | 38.19
| Walsh | 30.93
| Ward | 23.51
| Wells | 23.21
| Williams | 18.34
Ohio | Adams | 78.89
| Allen | 99.15
| Ashland | 103.64
| Ashtabula | 80.66
| Athens | 71.80
| Auglaize | 105.55
| Belmont | 58.29
| Brown | 81.10
| Butler | 128.45
| Carroll | 88.16
| Champaign | 101.29
| Clark | 105.94
| Clermont | 114.85
| Clinton | 99.76
| Columbiana | 106.21
| Coshocton | 81.85
| Crawford | 88.60
| Cuyahoga | 618.46
| Darke | 116.16
| Defiance | 82.60
| Delaware | 123.96
| Erie | 110.59
| Fairfield | 117.15
| Fayette | 92.98
| Franklin | 131.44
| Fulton | 99.27
| Gallia | 76.09
| Geauga | 166.66
| Greene | 108.57
| Guernsey | 72.21
| Hamilton | 183.47
| Hancock | 90.02
| Hardin | 89.74
| Harrison | 62.94
| Henry | 93.53
| Highland | 86.56
| Hocking | 93.39
| Holmes | 128.03
| Huron | 95.69
| Jackson | 70.16
| Jefferson | 65.04
| Knox | 98.49
| Lake | 212.57
| Lawrence | 70.08
| Licking | 111.70
| Logan | 86.94
| Lorain | 124.60
| Lucas | 120.47
| Madison | 107.29
| Mahoning | 114.11
| Marion | 85.39
| Medina | 152.70
| Meigs | 70.69
| Mercer | 135.18
| Miami | 107.93
| Monroe | 57.43
| Montgomery | 123.47
| Morgan | 60.56
| Morrow | 95.31
| Muskingum | 77.56
| Noble | 63.46
| Ottawa | 80.05
| Paulding | 88.02
| Perry | 79.55
| Pickaway | 95.36
| Pike | 69.69
| Portage | 128.62
| Preble | 100.65
| Putnam | 96.55
| Richland | 100.12
| Ross | 78.80
| Sandusky | 85.50
| Scioto | 73.04
| Seneca | 86.50
| Shelby | 113.58
| Stark | 131.77
| Summit | 219.93
| Trumbull | 90.90
| Tuscarawas | 96.66
| Union | 92.59
| Van Wert | 99.18
| Vinton | 75.26
| Warren | 147.69
| Washington | 71.05
| Wayne | 138.67
| Williams | 84.87
| Wood | 93.01
| Wyandot | 86.56
Oklahoma | Adair | 52.67
| Alfalfa | 25.52
| Atoka | 33.91
| Beaver | 17.33
| Beckham | 27.26
| Blaine | 22.99
| Bryan | 43.90
| Caddo | 30.01
| Canadian | 41.25
| Carter | 38.72
| Cherokee | 51.24
| Choctaw | 36.94
| Cimarron | 13.78
| Cleveland | 66.12
| Coal | 34.24
| Comanche | 31.55
| Cotton | 26.76
| Craig | 36.14
| Creek | 43.73
| Custer | 29.43
| Delaware | 57.10
| Dewey | 23.13
| Ellis | 19.94
| Garfield | 28.00
| Garvin | 36.58
| Grady | 35.53
| Grant | 24.45
| Greer | 19.72
| Harmon | 23.54
| Harper | 19.14
| Haskell | 35.37
| Hughes | 32.40
| Jackson | 23.87
| Jefferson | 28.99
| Johnston | 33.50
| Kay | 28.44
| Kingfisher | 30.89
| Kiowa | 25.33
| Latimer | 34.65
| Le Flore | 45.88
| Lincoln | 45.00
| Logan | 38.04
| Love | 41.20
| McClain | 46.29
| McCurtain | 43.54
| McIntosh | 36.36
| Major | 25.94
| Marshall | 41.67
| Mayes | 54.04
| Murray | 38.34
| Muskogee | 44.83
| Noble | 31.52
| Nowata | 33.09
| Okfuskee | 32.62
| Oklahoma | 70.82
| Okmulgee | 47.94
| Osage | 25.83
| Ottawa | 49.29
| Pawnee | 34.27
| Payne | 45.63
| Pittsburg | 33.55
| Pontotoc | 38.64
| Pottawatomie | 39.16
| Pushmataha | 35.75
| Roger Mills | 21.26
| Rogers | 58.86
| Seminole | 38.09
| Sequoyah | 46.45
| Stephens | 32.98
| Texas | 18.73
| Tillman | 22.77
| Tulsa | 79.90
| Wagoner | 48.90
| Washington | 40.40
| Washita | 27.53
| Woods | 22.20
| Woodward | 22.80
Oregon | Baker | 22.12
| Benton | 101.80
| Clackamas | 261.53
| Clatsop | 116.14
| Columbia | 123.57
| Coos | 71.43
| Crook | 18.20
| Curry | 66.84
| Deschutes | 131.18
| Douglas | 64.78
| Gilliam | 8.44
| Grant | 12.71
| Harney | 9.96
| Hood River | 337.04
| Jackson | 111.32
| Jefferson | 15.43
| Josephine | 168.56
| Klamath | 30.10
| Lake | 17.70
| Lane | 141.60
| Lincoln | 99.99
| Linn | 82.82
| Malheur | 20.94
| Marion | 131.61
| Morrow | 14.08
| Multnomah | 241.09
| Polk | 104.27
| Sherman | 11.96
| Tillamook | 118.81
| Umatilla | 22.04
| Union | 28.67
| Wallowa | 21.91
| Wasco | 14.10
| Washington | 194.05
| Wheeler | 8.84
| Yamhill | 168.71
Pennsylvania | Adams | 174.70
| Allegheny | 158.19
| Armstrong | 85.56
| Beaver | 133.74
| Bedford | 94.31
| Berks | 188.18
| Blair | 112.93
| Bradford | 83.48
| Bucks | 272.11
| Butler | 124.61
| Cambria | 95.08
| Cameron | 54.52
| Carbon | 149.52
| Centre | 139.32
| Chester | 293.68
| Clarion | 79.35
| Clearfield | 69.07
| Clinton | 115.50
| Columbia | 115.12
| Crawford | 78.86
| Cumberland | 173.56
| Dauphin | 166.83
| Delaware | 356.03
| Elk | 93.49
| Erie | 109.51
| Fayette | 99.75
| Forest | 90.51
| Franklin | 166.23
| Fulton | 95.40
| Greene | 85.53
| Huntingdon | 100.05
| Indiana | 99.23
| Jefferson | 74.60
| Juniata | 126.03
| Lackawanna | 134.89
| Lancaster | 254.96
| Lawrence | 103.85
| Lebanon | 227.48
| Lehigh | 160.62
| Luzerne | 129.28
| Lycoming | 94.58
| McKean | 57.81
| Mercer | 87.23
| Mifflin | 126.55
| Monroe | 193.30
| Montgomery | 274.13
| Montour | 139.92
| Northampton | 166.34
| Northumberland | 110.42
| Perry | 120.84
| Philadelphia | 957.90
| Pike | 45.50
| Potter | 71.01
| Schuylkill | 137.05
| Snyder | 136.20
| Somerset | 78.18
| Sullivan | 67.81
| Susquehanna | 89.66
| Tioga | 80.86
| Union | 161.55
| Venango | 75.01
| Warren | 71.94
| Washington | 120.81
| Wayne | 113.12
| Westmoreland | 123.16
| Wyoming | 95.10
| York | 155.32
Puerto Rico | All Areas | 211.59
Rhode Island | Bristol | 640.29
| Kent | 335.60
| Newport | 570.30
| Providence | 438.42
| Washington | 366.08
South Carolina | Abbeville | 73.10
| Aiken | 97.12
| Allendale | 49.35
| Anderson | 106.68
| Bamberg | 58.09
| Barnwell | 70.42
| Beaufort | 59.72
| Berkeley | 93.14
| Calhoun | 66.30
| Charleston | 187.66
| Cherokee | 76.30
| Chester | 84.75
| Chesterfield | 64.03
| Clarendon | 53.57
| Colleton | 53.84
| Darlington | 47.78
| Dillon | 54.63
| Dorchester | 90.35
| Edgefield | 82.52
| Fairfield | 75.89
| Florence | 69.88
| Georgetown | 73.94
| Greenville | 153.35
| Greenwood | 75.89
| Hampton | 59.77
| Horry | 93.71
| Jasper | 55.20
| Kershaw | 82.50
| Lancaster | 99.67
| Laurens | 83.77
| Lee | 57.31
| Lexington | 119.33
| McCormick | 68.71
| Marion | 64.95
| Marlboro | 49.51
| Newberry | 79.17
| Oconee | 147.23
| Orangeburg | 61.10
| Pickens | 155.43
| Richland | 86.26
| Saluda | 75.35
| Spartanburg | 132.49
| Sumter | 54.06
| Union | 69.61
| Williamsburg | 65.98
| York | 108.09
South Dakota | Aurora | 37.82
| Beadle | 36.05
| Bennett | 10.26
| Bon Homme | 40.55
| Brookings | 58.99
| Brown | 43.73
| Brule | 29.03
| Buffalo | 15.18
| Butte | 13.55
| Campbell | 20.26
| Charles Mix | 34.72
| Clark | 40.31
| Clay | 64.30
| Codington | 43.29
| Corson | 10.39
| Custer | 15.90
| Davison | 47.16
| Day | 34.06
| Deuel | 43.48
| Dewey | 9.70
| Douglas | 40.58
| Edmunds | 28.36
| Fall River | 11.17
| Faulk | 26.81
| Grant | 43.95
| Gregory | 20.12
| Haakon | 11.75
| Hamlin | 51.69
| Hand | 25.68
| Hanson | 54.04
| Harding | 10.06
| Hughes | 23.06
| Hutchinson | 50.64
| Hyde | 17.64
| Jackson | 9.90
| Jerauld | 25.32
| Jones | 10.81
| Kingsbury | 41.94
| Lake | 66.68
| Lawrence | 39.95
| Lincoln | 84.87
| Lyman | 17.31
| McCook | 57.91
| McPherson | 20.73
| Marshall | 32.21
| Meade | 13.90
| Mellette | 10.01
| Miner | 41.69
| Minnehaha | 76.27
| Moody | 69.30
| Pennington | 18.96
| Perkins | 11.33
| Potter | 25.74
| Roberts | 40.64
| Sanborn | 34.00
| Shannon | 5.89
| Spink | 37.96
| Stanley | 10.95
| Sully | 24.96
| Todd | 8.07
| Tripp | 20.12
| Turner | 62.03
| Union | 71.38
| Walworth | 20.04
| Yankton | 54.54
| Ziebach | 8.27
Tennessee | Anderson | 147.32
| Bedford | 101.98
| Benton | 61.64
| Bledsoe | 87.84
| Blount | 153.33
| Bradley | 132.49
| Campbell | 95.78
| Cannon | 89.16
| Carroll | 70.08
| Carter | 111.44
| Cheatham | 113.04
| Chester | 67.32
| Claiborne | 85.71
| Clay | 68.12
| Cocke | 104.08
| Coffee | 96.63
| Crockett | 64.48
| Cumberland | 96.74
| Davidson | 171.51
| Decatur | 58.02
| DeKalb | 87.67
| Dickson | 93.52
| Dyer | 75.87
| Fayette | 89.11
| Fentress | 96.33
| Franklin | 102.92
| Gibson | 70.60
| Giles | 87.26
| Grainger | 104.41
| Greene | 117.76
| Grundy | 89.41
| Hamblen | 105.16
| Hamilton | 150.00
| Hancock | 81.49
| Hardeman | 68.39
| Hardin | 70.30
| Hawkins | 100.33
| Haywood | 66.74
| Henderson | 64.51
| Henry | 74.82
| Hickman | 75.51
| Houston | 66.57
| Humphreys | 71.01
| Jackson | 75.10
| Jefferson | 129.04
| Johnson | 120.49
| Knox | 178.49
| Lake | 76.17
| Lauderdale | 60.20
| Lawrence | 85.52
| Lewis | 78.96
| Lincoln | 94.81
| Loudon | 136.32
| McMinn | 110.97
| McNairy | 60.92
| Macon | 90.15
| Madison | 77.25
| Marion | 100.08
| Marshall | 90.04
| Maury | 104.36
| Meigs | 98.73
| Monroe | 112.77
| Montgomery | 89.30
| Moore | 90.51
| Morgan | 79.67
| Obion | 70.30
| Overton | 89.55
| Perry | 58.36
| Pickett | 95.86
| Polk | 128.65
| Putnam | 114.75
| Rhea | 99.12
| Roane | 117.21
| Robertson | 105.98
| Rutherford | 126.11
| Scott | 86.51
| Sequatchie | 93.35
| Sevier | 152.45
| Shelby | 128.49
| Smith | 86.95
| Stewart | 74.74
| Sullivan | 140.48
| Sumner | 111.55
| Tipton | 64.84
| Trousdale | 89.22
| Unicoi | 199.39
| Union | 101.05
| Van Buren | 78.51
| Warren | 97.41
| Washington | 152.07
| Wayne | 60.73
| Weakley | 69.80
| White | 90.62
| Williamson | 148.01
| Wilson | 112.90
Texas | Anderson | 59.42
| Andrews | 9.05
| Angelina | 74.49
| Aransas | 36.74
| Archer | 25.90
| Armstrong | 23.00
| Atascosa | 43.74
| Austin | 90.84
| Bailey | 24.17
| Bandera | 61.02
| Bastrop | 73.03
| Baylor | 15.63
| Bee | 37.94
| Bell | 62.80
| Bexar | 72.92
| Blanco | 66.69
| Borden | 15.41
| Bosque | 57.45
| Bowie | 49.30
| Brazoria | 58.25
| Brazos | 73.45
| Brewster | 9.13
| Briscoe | 16.48
| Brooks | 27.66
| Brown | 48.05
| Burleson | 60.09
| Burnet | 60.25
| Caldwell | 61.68
| Calhoun | 42.41
| Callahan | 33.86
| Cameron | 51.46
| Camp | 72.49
| Carson | 21.72
| Cass | 57.37
| Castro | 27.53
| Chambers | 38.63
| Cherokee | 61.95
| Childress | 18.98
| Clay | 35.19
| Cochran | 23.24
| Coke | 20.85
| Coleman | 34.26
| Collin | 92.17
| Collingsworth | 22.95
| Colorado | 62.88
| Comal | 80.03
| Comanche | 52.42
| Concho | 27.18
| Cooke | 66.26
| Coryell | 53.35
| Cottle | 17.14
| Crane | 10.17
| Crockett | 10.84
| Crosby | 18.37
| Culberson | 8.04
| Dallam | 22.50
| Dallas | 87.99
| Dawson | 22.66
| Deaf Smith | 24.31
| Delta | 42.97
| Denton | 95.15
| DeWitt | 49.41
| Dickens | 21.96
| Dimmit | 26.81
| Donley | 17.09
| Duval | 27.13
| Eastland | 46.06
| Ector | 10.60
| Edwards | 21.32
| Ellis | 65.09
| El Paso | 38.98
| Erath | 63.97
| Falls | 42.28
| Fannin | 51.62
| Fayette | 73.40
| Fisher | 24.12
| Floyd | 26.86
| Foard | 18.64
| Fort Bend | 61.55
| Franklin | 60.06
| Freestone | 46.43
| Frio | 35.94
| Gaines | 25.32
| Galveston | 65.17
| Garza | 16.35
| Gillespie | 69.27
| Glasscock | 19.62
| Goliad | 43.34
| Gonzales | 56.47
| Gray | 19.41
| Grayson | 80.77
| Gregg | 91.21
| Grimes | 64.99
| Guadalupe | 69.27
| Hale | 30.86
| Hall | 22.20
| Hamilton | 45.55
| Hansford | 21.46
| Hardeman | 21.59
| Hardin | 60.51
| Harris | 89.77
| Harrison | 58.76
| Hartley | 18.00
| Haskell | 23.64
| Hays | 75.21
| Hemphill | 19.38
| Henderson | 65.12
| Hidalgo | 58.06
| Hill | 49.01
| Hockley | 28.46
| Hood | 72.68
| Hopkins | 60.86
| Houston | 54.60
| Howard | 20.45
| Hudspeth | 7.53
| Hunt | 65.65
| Hutchinson | 17.78
| Irion | 16.59
| Jack | 39.61
| Jackson | 36.31
| Jasper | 74.57
| Jeff Davis | 7.43
| Jefferson | 37.03
| Jim Hogg | 17.20
| Jim Wells | 38.90
| Johnson | 90.73
| Jones | 29.20
| Karnes | 45.95
| Kaufman | 69.59
| Kendall | 72.36
| Kenedy | 15.44
| Kent | 16.03
| Kerr | 47.49
| Kimble | 39.72
| King | 10.09
| Kinney | 24.09
| Kleberg | 31.49
| Knox | 22.74
| Lamar | 43.82
| Lamb | 27.61
| Lampasas | 49.46
| La Salle | 29.68
| Lavaca | 56.65
| Lee | 69.09
| Leon | 53.75
| Liberty | 53.22
| Limestone | 41.69
| Lipscomb | 19.35
| Live Oak | 39.69
| Llano | 50.18
| Loving | 3.49
| Lubbock | 31.92
| Lynn | 23.56
| McCulloch | 35.38
| McLennan | 54.90
| McMullen | 27.98
| Madison | 55.88
| Marion | 53.96
| Martin | 17.17
| Mason | 48.77
| Matagorda | 36.74
| Maverick | 24.04
| Medina | 52.50
| Menard | 28.99
| Midland | 23.13
| Milam | 50.96
| Mills | 44.86
| Mitchell | 21.88
| Montague | 54.84
| Montgomery | 100.87
| Moore | 22.84
| Morris | 60.33
| Motley | 15.84
| Nacogdoches | 64.45
| Navarro | 42.92
| Newton | 50.00
| Nolan | 27.34
| Nueces | 34.34
| Ochiltree | 21.62
| Oldham | 8.68
| Orange | 67.46
| Palo Pinto | 51.59
| Panola | 52.87
| Parker | 97.12
| Parmer | 27.13
| Pecos | 7.21
| Polk | 61.15
| Potter | 17.62
| Presidio | 11.07
| Rains | 64.48
| Randall | 30.51
| Reagan | 13.36
| Real | 28.75
| Red River | 35.38
| Reeves | 8.39
| Refugio | 19.49
| Roberts | 17.92
| Robertson | 53.64
| Rockwall | 120.15
| Runnels | 30.00
| Rusk | 54.50
| Sabine | 68.18
| San Augustine | 52.87
| San Jacinto | 69.94
| San Patricio | 32.99
| San Saba | 43.26
| Schleicher | 24.07
| Scurry | 23.88
| Shackelford | 22.34
| Shelby | 74.81
| Sherman | 21.67
| Smith | 83.49
| Somervell | 84.42
| Starr | 32.93
| Stephens | 32.83
| Sterling | 9.77
| Stonewall | 17.81
| Sutton | 21.19
| Swisher | 19.33
| Tarrant | 96.56
| Taylor | 32.91
| Terrell | 5.99
| Terry | 23.56
| Throckmorton | 23.21
| Titus | 54.66
| Tom Green | 28.73
| Travis | 75.40
| Trinity | 51.20
| Tyler | 74.65
| Upshur | 68.79
| Upton | 13.66
| Uvalde | 28.94
| Val Verde | 12.17
| Van Zandt | 81.01
| Victoria | 41.29
| Walker | 65.25
| Waller | 87.93
| Ward | 9.85
| Washington | 98.72
| Webb | 19.89
| Wharton | 46.99
| Wheeler | 18.10
| Wichita | 25.85
| Wilbarger | 19.65
| Willacy | 31.79
| Williamson | 74.97
| Wilson | 62.86
| Winkler | 6.98
| Wise | 83.91
| Wood | 77.15
| Yoakum | 22.52
| Young | 33.49
| Zapata | 24.47
| Zavala | 28.01
Utah | Beaver | 27.85
| Box Elder | 10.98
| Cache | 37.60
| Carbon | 12.81
| Daggett | 18.89
| Davis | 64.33
| Duchesne | 7.91
| Emery | 15.43
| Garfield | 31.49
| Grand | 5.02
| Iron | 19.23
| Juab | 14.07
| Kane | 17.88
| Millard | 14.14
| Morgan | 16.40
| Piute | 33.69
| Rich | 9.69
| Salt Lake | 38.89
| San Juan | 4.32
| Sanpete | 26.29
| Sevier | 23.74
| Summit | 17.23
| Tooele | 19.62
| Uintah | 6.38
| Utah | 51.19
| Wasatch | 57.41
| Washington | 37.31
| Wayne | 32.70
| Weber | 59.27
Vermont | Addison | 71.81
| Bennington | 100.86
| Caledonia | 72.17
| Chittenden | 103.89
| Essex | 42.63
| Franklin | 68.10
| Grand Isle | 98.56
| Lamoille | 85.38
| Orange | 80.98
| Orleans | 63.23
| Rutland | 68.34
| Washington | 94.57
| Windham | 101.43
| Windsor | 109.77
Virginia | Accomack | 83.35
| Albemarle | 160.34
| Alleghany | 78.28
| Amelia | 98.69
| Amherst | 84.37
| Appomattox | 76.91
| Arlington | 116.05
| Augusta | 134.89
| Bath | 102.52
| Bedford | 130.21
| Bland | 81.07
| Botetourt | 116.93
| Brunswick | 68.73
| Buchanan | 116.05
| Buckingham | 84.84
| Campbell | 92.39
| Caroline | 128.42
| Carroll | 113.13
| Charles City | 99.30
| Charlotte | 73.49
| Chesterfield | 155.22
| Clarke | 188.05
| Craig | 97.81
| Culpeper | 163.45
| Cumberland | 107.51
| Dickenson | 87.92
| Dinwiddie | 87.68
| Essex | 89.33
| Fairfax | 353.71
| Fauquier | 159.21
| Floyd | 114.48
| Fluvanna | 137.04
| Franklin | 114.78
| Frederick | 161.03
| Giles | 86.19
| Gloucester | 154.89
| Goochland | 145.77
| Grayson | 127.09
| Greene | 180.53
| Greensville | 76.30
| Halifax | 76.30
| Hanover | 156.10
| Henrico | 149.41
| Henry | 86.08
| Highland | 83.60
| Isle of Wight | 87.13
| James City | 231.30
| King and Queen | 99.58
| King George | 115.61
| King William | 105.94
| Lancaster | 116.85
| Lee | 75.50
| Loudoun | 203.48
| Louisa | 135.00
| Lunenburg | 81.04
| Madison | 159.16
| Mathews | 157.15
| Mecklenburg | 87.15
| Middlesex | 138.63
| Montgomery | 113.71
| Nelson | 129.05
| New Kent | 147.04
| Northampton | 108.47
| Northumberland | 104.56
| Nottoway | 96.30
| Orange | 152.77
| Page | 169.57
| Patrick | 95.64
| Pittsylvania | 86.96
| Powhatan | 177.06
| Prince Edward | 84.78
| Prince George | 103.63
| Prince William | 202.07
| Pulaski | 100.46
| Rappahannock | 171.14
| Richmond | 101.39
| Roanoke | 139.38
| Rockbridge | 119.90
| Rockingham | 169.40
| Russell | 77.98
| Scott | 81.23
| Shenandoah | 148.61
| Smyth | 91.12
| Southampton | 71.37
| Spotsylvania | 139.85
| Stafford | 243.14
| Surry | 90.98
| Sussex | 87.07
| Tazewell | 62.94
| Warren | 174.97
| Washington | 121.03
| Westmoreland | 99.16
| Wise | 76.85
| Wythe | 108.20
| York | 487.11
| Chesapeake City | 148.25
| Suffolk | 125.44
| Virginia Beach City | 171.52
Washington | Adams | 18.30
| Asotin | 14.85
| Benton | 41.51
| Chelan | 130.09
| Clallam | 187.43
| Clark | 236.41
| Columbia | 17.83
| Cowlitz | 136.02
| Douglas | 19.71
| Ferry | 7.88
| Franklin | 38.62
| Garfield | 14.46
| Grant | 44.58
| Grays Harbor | 47.84
| Island | 219.70
| Jefferson | 130.37
| King | 317.86
| Kitsap | 333.58
| Kittitas | 69.83
| Klickitat | 22.26
| Lewis | 105.66
| Lincoln | 17.80
| Mason | 146.94
| Okanogan | 21.68
| Pacific | 59.25
| Pend Oreille | 54.00
| Pierce | 263.53
| San Juan | 155.30
| Skagit | 120.55
| Skamania | 157.46
| Snohomish | 193.22
| Spokane | 42.01
| Stevens | 24.91
| Thurston | 152.85
| Wahkiakum | 71.23
| Walla Walla | 30.81
| Whatcom | 199.88
| Whitman | 19.94
| Yakima | 27.34
West Virginia | Barbour | 45.59
| Berkeley | 185.86
| Boone | 42.84
| Braxton | 44.73
| Brooke | 45.51
| Cabell | 70.04
| Calhoun | 42.96
| Clay | 46.04
| Doddridge | 40.82
| Fayette | 56.86
| Gilmer | 40.54
| Grant | 64.57
| Greenbrier | 66.96
| Hampshire | 132.58
| Hancock | 75.87
| Hardy | 84.61
| Harrison | 57.77
| Jackson | 54.83
| Jefferson | 188.44
| Kanawha | 75.73
| Lewis | 47.03
| Lincoln | 41.15
| Logan | 78.78
| McDowell | 61.66
| Marion | 58.86
| Marshall | 51.83
| Mason | 61.80
| Mercer | 61.13
| Mineral | 76.92
| Mingo | 27.36
| Monongalia | 76.53
| Monroe | 63.66
| Morgan | 120.29
| Nicholas | 56.14
| Ohio | 58.80
| Pendleton | 59.02
| Pleasants | 57.88
| Pocahontas | 56.30
| Preston | 66.35
| Putnam | 66.15
| Raleigh | 63.77
| Randolph | 55.50
| Ritchie | 46.42
| Roane | 48.09
| Summers | 55.64
| Taylor | 60.94
| Tucker | 53.56
| Tyler | 52.17
| Upshur | 59.02
| Wayne | 50.28
| Webster | 54.72
| Wetzel | 42.76
| Wirt | 44.98
| Wood | 63.38
| Wyoming | 37.77
Wisconsin | Adams | 86.06
| Ashland | 58.21
| Barron | 67.29
| Bayfield | 58.95
| Brown | 106.54
| Buffalo | 69.76
| Burnett | 69.54
| Calumet | 103.80
| Chippewa | 67.61
| Clark | 67.94
| Columbia | 101.76
| Crawford | 70.52
| Dane | 117.62
| Dodge | 99.61
| Door | 91.55
| Douglas | 55.77
| Dunn | 76.06
| Eau Claire | 76.01
| Florence | 64.19
| Fond du Lac | 95.95
| Forest | 52.29
| Grant | 85.54
| Green | 97.01
| Green Lake | 94.48
| Iowa | 89.43
| Iron | 51.61
| Jackson | 70.28
| Jefferson | 109.80
| Juneau | 77.72
| Kenosha | 138.24
| Kewaunee | 94.91
| La Crosse | 78.70
| Lafayette | 95.59
| Langlade | 69.41
| Lincoln | 69.41
| Manitowoc | 94.89
| Marathon | 74.27
| Marinette | 73.10
| Marquette | 83.34
| Menominee | 31.89
| Milwaukee | 195.91
| Monroe | 80.62
| Oconto | 80.90
| Oneida | 77.34
| Outagamie | 100.46
| Ozaukee | 129.98
| Pepin | 74.24
| Pierce | 90.76
| Polk | 78.37
| Portage | 93.45
| Price | 52.92
| Racine | 129.90
| Richland | 76.52
| Rock | 109.42
| Rusk | 63.05
| St. Croix | 103.55
| Sauk | 92.17
| Sawyer | 80.84
| Shawano | 83.67
| Sheboygan | 105.10
| Taylor | 63.13
| Trempealeau | 71.01
| Vernon | 80.60
| Vilas | 135.09
| Walworth | 117.70
| Washburn | 74.16
| Washington | 138.32
| Waukesha | 148.97
| Waupaca | 87.74
| Waushara | 95.95
| Winnebago | 93.39
| Wood | 81.68
| Albany | 7.46
| Big Horn | 13.88
| Campbell | 6.17
| Carbon | 4.97
| Converse | 5.45
| Crook | 9.47
| Fremont | 14.50
| Goshen | 9.45
| Hot Springs | 11.62
| Johnson | 6.11
| Laramie | 7.68
| Lincoln | 18.16
| Natrona | 5.29
| Niobrara | 5.97
| Park | 13.14
| Platte | 9.69
| Sheridan | 12.44
| Sublette | 16.04
| Sweetwater | 2.83
| Teton | 28.89
| Uinta | 9.31
| Washakie | 9.02
| Weston | 7.01

[FR Doc. 2013-04939 Filed 3-11-13; 8:45 am]

BILLING CODE 6717-01-P